OFFICE OF PERSONNEL MANAGEMENT

Excepted Service

AGENCY: U.S. Office of Personnel Management (OPM).

ACTION: Notice.

SUMMARY: This notice identifies Schedule A, B, and C appointing authorities applicable to a single agency that were established or revoked from August 1, 2014, to August 31, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during August 2014.

Schedule B

No Schedule B authorities to report during August 2014.

Schedule C

The following Schedule C appointing authorities were approved during August 2014.

Agency name | Organization name | Position title | Authorization No. | Effective date
DEPARTMENT OF AGRICULTURE | Office of the Under Secretary for Research, Education, and Economics | Confidential Assistant | DA140100 | 8/4/2014
| Foreign Agricultural Service | Minister Counselor of Agriculture | DA140105 | 8/18/2014
| Office of the Assistant Secretary for Congressional Relations | Confidential Assistant Legislative Analyst | DA140106 DA140107 | 8/19/2014 8/19/2014
| Office of Communications | Speech Writer Scheduler | DA140110 DA140111 | 8/22/2014 8/27/2014
DEPARTMENT OF COMMERCE | International Trade Administration | Senior Advisor (2) | DC140147 DC140155 | 8/4/2014 8/26/2014
| National Oceanic and Atmospheric Administration | Senior Advisor to the Under Secretary | DC140148 | 8/4/2014
| Office of the Chief of Staff | Confidential Assistant | DC140152 | 8/15/2014
|  | Special Assistant | DC140158 | 8/25/2014
| Office of Under Secretary | Senior Advisor for Oceans and Atmosphere | DC140151 | 8/18/2014
|  | Senior Advisor to the Under Secretary | DC140159 | 8/28/2014
| Office of Public Affairs | Press Assistant | DC140153 | 8/18/2014
| Office of Legislative and Intergovernmental Affairs | Director of Legislative Outreach | DC140154 | 8/18/2014
| Economic Development Administration | Special Advisor | DC140150 | 8/20/2014
COMMODITY FUTURES TRADING COMMISSION | Office of the Chairperson | Executive Assistant | CT140010 | 8/20/2014
CONSUMER PRODUCT SAFETY COMMISSION | Office of Commissioners | Special Assistant Special Assistant (Legal) | PS140011 PS140012 | 8/15/2014 8/20/2014
DEPARTMENT OF DEFENSE | Washington Headquarters Services | Defense Fellow | DD140128 | 8/12/2014
| Office of the Secretary | Special Assistant | DD140133 | 8/15/2014
DEPARTMENT OF EDUCATION | Office of the Deputy Secretary | Confidential Assistant | DB140100 | 8/6/2014
| Office of the Secretary | Special Assistant (2) | DB140099 DB140103 | 8/7/2014 8/21/2014
| Office of Planning, Evaluation and Policy Development | Special Assistant | DB140102 | 8/21/2014
DEPARTMENT OF ENERGY | Office of Management | Special Assistant | DE140095 | 8/12/2014
EXECUTIVE OFFICE OF THE PRESIDENT | Council on Environmental Quality, Executive Office of the President | Special Assistant (Energy/Climate Change) | OP140003 | 8/15/2014
FEDERAL ENERGY REGULATORY COMMISSION | Federal Energy Regulatory Commission | Confidential Assistant Program Analyst | DR140006 DR140007 | 8/13/2014 8/13/2014
FEDERAL HOUSING FINANCE AGENCY | Federal Housing Finance Agency | Chief of Staff | HA140005 | 8/18/2014
GENERAL SERVICES ADMINISTRATION | Regional Administrators | Special Assistant | GS140049 | 8/15/2014
| Office of Congressional and Intergovernmental Affairs | Policy Advisor | GS140051 | 8/27/2014
DEPARTMENT OF HEALTH AND HUMAN SERVICES | Office of Intergovernmental and External Affairs | Regional Director, New York, New York, Region II | DH140116 | 8/4/2014
| Administration for Community Living | Special Assistant | DH140117 | 8/4/2014
| Office of the Assistant Secretary for Preparedness and Response | Special Assistant for Preparedness and Response | DH140122 | 8/22/2014
DEPARTMENT OF HOMELAND SECURITY | Office of the Under Secretary for National Protection and Programs Directorate | Confidential Assistant | DM140218 | 8/7/2014
| Office of the Chief of Staff | Travel Operations Coordinator | DM140223 | 8/12/2014
| Office of the Assistant Secretary for Policy | Policy Advisor | DM140227 | 8/21/2014
| Office of the Assistant Secretary for Public Affairs | Press Secretary Press Assistant | DM140231 DM140233 | 8/21/2014 8/22/2014
|  | Assistant Press Secretary | DM140235 | 8/22/2014
| Office of the Assistant Secretary for Intergovernmental Affairs | Intergovernmental Affairs Coordinator | DM140228 | 8/28/2014
DEPARTMENT OF HOUSING AND URBAN DEVELOPMENT | Office of the Secretary | Senior Policy Advisor | DU140042 | 8/7/2014
| Office of the Chief Human Capital Officer | Director of Scheduling | DU140043 | 8/20/2014
| Office of Congressional and Intergovernmental Relations | Senior Advisor | DU140045 | 8/20/2014
| Office of Administration | Scheduling and Advance Coordinator | DU140047 | 8/27/2014
DEPARTMENT OF THE INTERIOR | Secretary's Immediate Office | Director of Digital Strategy | DI140066 | 8/11/2014
DEPARTMENT OF JUSTICE | Civil Rights Division | Senior Counsel | DJ140095 | 8/13/2014
| Office of Legislative Affairs | Confidential Assistant | DJ140110 | 8/15/2014
| Office of the Attorney General | Deputy White House Liaison Director of Advance | DJ140109 DJ140116 | 8/18/2014 8/26/2014
| Antitrust Division | Chief of Staff | DJ140114 | 8/20/2014
| Office of Justice Programs | Policy Advisor | DJ140117 | 8/25/2014
| Office of Legal Policy | Senior Counsel | DJ140115 | 8/26/2014
DEPARTMENT OF LABOR | Office of Congressional and Intergovernmental Affairs | Legislative Officer | DL140080 | 8/5/2014
|  | Senior Legislative Officer | DL140086 | 8/5/2014
|  | Senior Legislative Assistant | DL140078 | 8/6/2014
| Occupational Safety and Health Administration | Chief of Staff | DL140089 | 8/7/2014
| Office of the Secretary | Chief Economist | DL140090 | 8/18/2014
|  | Advisor | DL140091 | 8/28/2014
|  | Special Assistant (2) | DL140092 DL140093 | 8/27/2014 8/28/2014
NATIONAL AERONAUTICS AND SPACE ADMINISTRATION | Office of General Counsel | Special Projects Coordinator | NN140063 | 8/25/2014
NATIONAL ENDOWMENT FOR THE ARTS | National Endowment for the Arts | Scheduler (2) | NA140007 NA140009 | 8/18/2014 8/21/2014
OFFICE OF SCIENCE AND TECHNOLOGY POLICY | Office of Science and Technology Policy | Special Assistant | TS140006 | 8/5/2014
SECURITIES AND EXCHANGE COMMISSION | Office of the Chief Accountant | Director, Office of the Chief Accountant | SE140004 | 8/18/2014
DEPARTMENT OF STATE | Office of the United States Aids Coordinator | Staff Assistant | DS140113 | 8/1/2014
| Office of International Information Programs | Staff Assistant | DS140123 | 8/20/2014
| Office of the Under Secretary for Economic Growth, Energy, and the Environment | Senior Advisor | DS140124 | 8/20/2014
| Bureau of African Affairs | Staff Assistant | DS140125 | 8/29/2014
DEPARTMENT OF TRANSPORTATION | Office of the Secretary | Deputy White House Liaison | DT140050 | 8/18/2014
| Immediate Office of the Administrator | Associate Administrator for Governmental, International, and Public Affairs | DT140051 | 8/18/2014
DEPARTMENT OF THE TREASURY | Office of the Assistant Secretary (Legislative Affairs) | Special Assistant | DY140108 | 8/4/2014
| Office of the Assistant Secretary (Public Affairs) | Spokesperson | DY140113 | 8/6/2014
| Office of the Secretary of the Treasury | Special Assistant (2) | DY140114 DY140116 | 8/6/2014 8/20/2014

The following Schedule C appointing authorities were revoked during August 2014.

Table 3—EPA-Approved Clark County Regulations
Agency | Organization name | Position title | Authorization number | Vacate date
DEPARTMENT OF AGRICULTURE | Office of the Under Secretary for Rural Development | Chief of Staff | DA110018 | 8/1/2014
DEPARTMENT OF COMMERCE | Office of Executive Secretariat | Confidential Assistant | DC130017 | 8/9/2014
| Office of the Chief of Staff | Confidential Assistant | DC140031 | 8/22/2014
| Bureau of the Census | Chief of Congressional Affairs | DC090152 | 8/23/2014
| National Oceanic and Atmospheric Administration | Senior Policy Advisor | DC120036 | 8/23/2014
COMMISSION ON CIVIL RIGHTS | Commissioners | Special Assistant to the Commissioner | CC130006 | 8/14/2014
DEPARTMENT OF EDUCATION | Office of the Secretary | Director, Scheduling and Advance | DB130012 | 8/9/2014
| Office of the Deputy Secretary | Confidential Assistant | DB130037 | 8/9/2014
| Office of the Under Secretary | Special Assistant | DB090133 | 8/15/2014
DEPARTMENT OF ENERGY | Assistant Secretary for Congressional and Intergovernmental Affairs | Special Assistant | DE120019 | 8/16/2014
FEDERAL ENERGY REGULATORY COMMISSION | Office of the Chairman | Confidential Assistant | DR130006 | 8/23/2014
|  | Program Analyst | DR130007 | 8/23/2014
DEPARTMENT OF HEALTH AND HUMAN SERVICES | Office of the Assistant Secretary for Public Affairs | Communications Director for Health Care | DH110106 | 8/1/2014
| Office of the Secretary | Special Assistant | DH140019 | 8/8/2014
| Office of the Assistant Secretary for Public Affairs | Communications Director for Public Health | DH120004 | 8/22/2014
DEPARTMENT OF HOMELAND SECURITY | Office of the Under Secretary for Intelligence and Analysis | Deputy Chief of Staff | DM140010 | 8/5/2014
| Office of the Assistant Secretary for Public Affairs | Assistant Press Secretary | DM120084 | 8/9/2014
| Office of the Under Secretary for National Protection and Programs Directorate | Cyber Security Strategist | DM130098 | 8/9/2014
| Office of the Assistant Secretary for Intergovernmental Affairs | Intergovernmental Affairs Coordinator | DM130061 | 8/22/2014
| Office of the Assistant Secretary for Policy | Advisor to the Assistant Secretary for International Affairs and Chief Diplomatic Officer | DM120079 | 8/23/2014
| Office of the Assistant Secretary for Public Affairs | Deputy Press Secretary | DM120114 | 8/23/2014
| Office of the Assistant Secretary for Public Affairs | Press Secretary | DM130168 | 8/23/2014
| Federal Emergency Management Agency | Associate Director for Public Affairs/Press Secretary | DM130178 | 8/23/2014
DEPARTMENT OF HOUSING AND URBAN DEVELOPMENT | Office of the Chief Human Capital Officer | Director of Scheduling | DU130030 | 8/23/2014
DEPARTMENT OF THE INTERIOR | Bureau of Safety and Environmental Enforcement | Special Assistant to the Director | DI120033 | 8/9/2014
DEPARTMENT OF JUSTICE | Office of the Attorney General | Director of Advance | DJ140094 | 8/8/2014
NATIONAL ENDOWMENT FOR THE ARTS | National Endowment for the Arts | Scheduler | NA140007 | 8/25/2014
OFFICE OF MANAGEMENT AND BUDGET | Office of the Director | Assistant to the Deputy Director | BO130026 | 8/9/2014
SMALL BUSINESS ADMINISTRATION | Office of Congressional and Legislative Affairs | Legislative Policy Advisor | SB140019 | 8/8/2014
| Office of the Administrator | Deputy Scheduler | SB130023 | 8/23/2014
|  | Director of Scheduling, Operations, and Advance | SB140033 | 8/23/2014
DEPARTMENT OF STATE | Bureau of Conflict and Stabilization Operations | Director of Policy and Programs | DS120068 | 8/9/2014

Authority: 5 U.S.C. 3301 and 3302; E.O. 10577, 3 CFR, 1954-1958 Comp., p. 218.

U.S. Office of Personnel Management.
Katherine Archuleta,
Director.

[FR Doc. 2014-27934 Filed 11-24-14; 8:45 am]

BILLING CODE 6325-39-P